DEPARTMENT OF TRANSPORTATION

Coast Guard

[USCG-2001-8840]

Chemical Transportation Advisory Committee

AGENCY: Coast Guard, DOT.

ACTION: Notice of meetings.

SUMMARY: The Chemical Transportation Advisory Committee (CTAC) and its Subcommittees will meet to discuss various issues relating to the marine transportation of hazardous materials in bulk. All meetings will be open to the public.

DATES: CTAC will meet on Thursday, March 8, 2001, from 9 a.m. to 3:30 p.m. The Subcommittees on Prevention Through People (PTP) and Hazardous Substances Response Standards will meet on Wednesday, March 7, 2001, from 8:30 a.m. to 4 p.m. These meetings may close early if all business is finished. Requests to make oral presentations should reach the Coast Guard on or before February 27, 2001. Requests to have a copy of written material distributed to each member of the Committee or Subcommittee should reach the Coast Guard on or before March 5, 2001.

ADDRESSES: CTAC will meet at the U.S. Department of Transportation (DOT), Nassif Building, 400 7th Street, SW., Washington, DC. CTAC will meet in rooms 6200-6204. The Subcommittees will meet at the same address, however, the PTP Subcommittee will meet in room 8440 and the Hazardous Substances Response Standards Subcommittee will meet in room 6332. Send written material and requests to make oral presentations to Commander Robert F. Corbin, Commandant (G-MSO-3), U.S. Coast Guard Headquarters, 2100 Second Street, SW., Washington, DC 20593-0001. This notice is available on the Internet at http://dms.dot.gov.

FOR FURTHER INFORMATION CONTACT: For questions on this notice, contact Commander Robert F. Corbin, Executive Director of CTAC, or Ms. Sara S. Ju, Assistant to the Executive Director, telephone 202-267-1217, fax 202-267-4570.

SUPPLEMENTARY INFORMATION: Notice of these meetings is given under the Federal Advisory Committee Act, 5 U.S.C. App. 2.

Agenda of Meetings

Chemical Transportation Advisory Committee:

(1) Introduction of Committee members and attendees.

(2) Progress Reports from the PTP and Hazardous Substances Response Standards Subcommittees.

(3) Discussion on the causes and hazards of cargo tank over-pressurization.

(4) Status of Coast Guard and International Maritime Organization (IMO) regulatory activities.

(5) Coast Guard's Crew Alertness Campaign.

(6) Open—for marine chemical transportation related issues.

Subcommittee on PTP. The agenda includes the following:

(1) Continuation of work on conducting a coarse qualitative risk assessment to identify the major potential hazards in the chemical transportation industry with relation to the human element component.

Subcommittee on Hazardous Substances Response Standards. The agenda includes the following:

(1) Continued effort of the following Subcommittee workgroup activities; Response Standards, Response Resources, and Response Training.

Procedural

All meetings are open to the public. Please note that the meetings may close early if all business is finished. At the Chairs' discretion, members of the public may make oral presentations during the meetings. If you would like to make an oral presentation at a meeting, please notify the Executive Director no later than February 27, 2001. Written material for distribution at a meeting should reach the Coast Guard no later than March 5, 2001. If you would like a copy of your material distributed to each member of the Committee or Subcommittee in advance of the meetings, please submit 25 copies to the Executive Director no later than March 5, 2001.

Information on Services for Individuals With Disabilities

For information on facilities or services for individuals with disabilities, or to request special assistance at the meetings, contact the Assistant to the Executive Director of CTAC as soon as possible.

Dated: February 5, 2001.
Joseph J. Angelo,
Director of Standards, Marine Safety and Environmental Protection.

[FR Doc. 01-3629 Filed 2-12-01; 8:45 am]

BILLING CODE 4910-15-M